NATIONAL AERONAUTICS AND SPACE ADMINISTRATION

[Notice (20-063)]

Notice of Availability of the Final Supplemental Environmental Impact Statement for Soil Cleanup Activities at Santa Susana Field Laboratory

AGENCY: National Aeronautics and Space Administration (NASA).

ACTION: Notice of Availability (NOA) of the Final Supplemental Environmental Impact Statement (SEIS) for Soil Cleanup Activities at the Santa Susana Field Laboratory (SSFL).

SUMMARY: Pursuant to the National Environmental Policy Act of 1969 (NEPA), as amended, the Council on Environmental Quality (CEQ) Regulations for Implementing the Procedural Provisions of NEPA, and NASA's NEPA-implementing regulations, policy, and procedures, NASA has prepared a Final SEIS for soil cleanup activities at SSFL in Ventura County, California. The purpose of this NOA is to announce the issuance and public availability of the Final SEIS and inform the public of where the document may be viewed. The Final SEIS is intended to inform NASA decision-makers, regulating agencies, and the public about the environmental impact of proposed soil cleanup in the NASA-administered portion of SSFL.

DATES: NASA will execute a Record of Decision (ROD) no sooner than 30 calendar days from the date of publication in the Federal Register (FR) of the U.S. Environmental Protection Agency's (EPA's) NOA of the Final SEIS.

ADDRESSES: The Final SEIS may be reviewed at the following locations:

1. Simi Valley Library, 2969 Tapo Canyon Road, Simi Valley, CA 93063, Phone: (805) 526-1735.

2. Platt Library, 23600 Victory Blvd., Woodland Hills, CA 91367, Phone: (818) 340-9386.

3. California State University, Northridge Oviatt Library, 18111 Nordhoff Street, 2nd Floor, Room 265, Northridge, CA 91330, Phone: (818) 677-2285.

4. Department of Toxic Substances Control, 9211 Oakdale Avenue, Chatsworth, CA 91311, Phone: (818) 717-6521.

The Final SEIS is also available on the internet at: https://www.nasa.gov/feature/environmental-impact-statement-eis-for-demolition-and-environmental-cleanup-activities.

FOR FURTHER INFORMATION CONTACT: Peter Zorba, SSFL Project Director, by email at msfc-ssfl-information@mail.nasa.gov, or 202-714-0496. Additional information about NASA's SSFL Site, the proposed soil cleanup activities, and the associated planning process and documentation (as available) may be found on the internet at https://ssfl.msfc.nasa.gov or on the California Department of Toxic Substances Control (DTSC) website at https://www.dtsc.ca.gov/SiteCleanup/Santa_Susana_Field_Lab/.

SUPPLEMENTARY INFORMATION: The SSFL site is 2,850 acres located in Ventura County, California, approximately 7 miles northwest of Canoga Park and approximately 30 miles northwest of downtown Los Angeles. SSFL is composed of four areas known as Areas I, II, III, and IV and two “undeveloped” areas. The NASA-administered portion is 41.7 acres within Area I and all 409.5 acres of Area II and was historically used for developing and testing rocket engines. The Boeing Company (Boeing) owns the remaining 2,398.8 acres within Areas I, III, IV, and the two undeveloped areas. The Department of Energy (DOE) is responsible for building demolition and cleanup of soils and groundwater in Area IV and the Northern Buffer Zone.

Rocket engine testing has been discontinued at SSFL and the property has been excessed to the General Services Administration (GSA). GSA has conditionally accepted the Report of Excess pending certain environmental cleanup requirements are met.

NASA entered into an Administrative Order on Consent (AOC) for Remedial Action with DTSC on December 6, 2010, “to further define and make more specific NASA's obligations with respect to the cleanup of soils at the Site.” Based on the 2010 Order, NASA is required to complete a federal environmental impact analysis pursuant to NEPA and NASA Procedural Requirement (NPR) 8580.1.

NASA completed a Final Environmental Impact Statement (EIS) per NEPA for demolition of site infrastructure, soil cleanup, and groundwater remediation within Area II and a portion of Area I (former Liquid Oxygen [LOX] Plant) of SSFL on March 14, 2014 (79 FR 14545). NASA subsequently issued a ROD for building demolition on April 25, 2014. A ROD for groundwater cleanup was published in the Federal Register on October 17, 2018 (83 FR 52570). On October 25, 2019, an NOA was published in the FR (84 FR 57490) for the Draft SEIS, which initiated a 45-day public comment period. On December 9, 2019, NASA published a notice in the FR that advised the public that the comment period would be extended by 30 days to January 8, 2020 (84 FR 67296).

This Final SEIS has been prepared by NASA for soil cleanup within its administered portion of SSFL.

Alternatives: The CEQ's implementing regulations for NEPA require that where significant new information relevant to environmental concerns and bearing on a proposed action or its impacts exists, an SEIS must be prepared for the original EIS so that the Agency has the best possible information to make any necessary substantive changes in its decisions regarding the proposed action. NASA initiated preparation of this Final SEIS when it determined that pursuant to information found in the DTSC's Draft Programmatic Environmental Impact Review for the SSFL cleanup, the soil quantity which may need to be removed from the SSFL site far exceeded the estimate NASA used in its 2014 Final EIS. NASA determined this constituted significant new information relevant to environmental concerns and bearing on the proposed action.

NEPA requires analysis of a range of reasonable alternatives to the proposed action. The alternatives section is the heart of any NEPA document, including this Final SEIS. In determining the scope of alternatives to be considered, NASA considered those alternatives that are: (1) Practical and feasible using both the AOC framework and a risk-based approach based on criteria provided for in the National Contingency Plan and as set forth in applicable California state law, (2) protective both environmentally and from a human health-based perspective, and (3) feasible from a technical implementability standpoint.

As it prepared the Final SEIS and evaluated the alternatives set forth below, NASA was mindful of its responsibility to implement an environmental cleanup of residual contaminants in Area II and the portion of Area I over which it has continued oversight in a manner that is fully protective of public health and the environment, preserves to the maximum extent possible the Site's natural and cultural resources, and is feasible (i.e., implementable). The Final SEIS takes into account other responsible party cleanup obligations for the areas of SSFL that surround NASA's property to ensure a long-term, cohesive, and uniform remedial action is implemented. The Final SEIS considers the following range of alternatives that meet NASA's objectives to clean up soil at the portion of the SSFL site administered by NASA.

• Alternative A: AOC Cleanup using DTSC-proposed Look-up Table (LUT) values (similar to the Proposed Action from the 2014 Final EIS with the impacts of increased soil volumes considered)

• Alternative B: Revised LUT Cleanup (this alternative involves proposed revisions to seven of the 139 LUT values to reflect standard California Water Board and California Human Health screening values. All other DTSC-proposed LUT values would remain the same.)

• Alternative C: Suburban Residential Cleanup (based on the DTSC-approved Standardized Risk Assessment Methodology [SRAM] Revision 2 Addendum, EPA risk assessment guidelines for residential land use, and California Environmental Protection Agency [Cal EPA] risk assessment guidance)

• Alternative D: Recreational Cleanup (based on DTSC-approved SRAM Revision 2 Addendum, EPA risk assessment guidelines for recreational land use, and Cal EPA risk assessment guidance)

A No Action alternative, which is required per NEPA, was also included in the analysis, though it would not meet the purpose and need of the proposed action.

Public meetings on the Draft EIS were held in the vicinity of SSFL on November 20 and 21, 2019. During the review period, NASA received approximately 1,200 comments, over 800 of which were form letters. After considering all comments received, NASA prepared the Final SEIS. There are no substantive changes to the range of alternatives considered. Alternative C, Suburban Residential Cleanup, is identified as the Agency's Preferred Alternative, and, along with Alternative D, the Agency's Environmentally Preferable Alternative.

Cheryl Parker,
Federal Register Liaison Officer.

[FR Doc. 2020-16076 Filed 7-23-20; 8:45 am]

BILLING CODE 7510-13-P